DEPARTMENT OF TRANSPORTATION

Federal Aviation Administration

14 CFR Part 39

[Docket No. FAA-2005-22557; Directorate Identifier 2005-NM-147-AD]

RIN 2120-AA64

Airworthiness Directives; McDonnell Douglas Model MD-11 and MD-11F Airplanes

AGENCY: Federal Aviation Administration (FAA), Department of Transportation (DOT).

ACTION: Notice of proposed rulemaking (NPRM).

SUMMARY: The FAA proposes to supersede an existing airworthiness directive (AD) that applies to certain McDonnell Douglas Model MD-11 and MD-11F airplanes. The existing AD currently requires replacement of the upper and lower reading lights in the forward crew rest area with a redesigned light fixture. This proposed AD would add airplanes to the applicability of the existing AD. This proposed AD results from a report of the old reading lights being inadvertently sent to an additional ten airplanes. We are proposing this AD to prevent a possible flammable condition, which could result in smoke and fire in the forward crew rest area.

DATES: We must receive comments on this proposed AD by November 14, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for service information identified in this proposed AD.

FOR FURTHER INFORMATION CONTACT: Ken Sujishi, Aerospace Engineer; Cabin Safety/Mechanical and Environmental Systems Branch; ANM-150L; FAA; Los Angeles Aircraft Certification Office; 3960 Paramount Boulevard; Lakewood, California 90712-4137; telephone (562) 627-5353; fax (562) 627-5210.

SUPPLEMENTARY INFORMATION:

Comments Invited

We invite you to submit any relevant written data, views, or arguments regarding this proposed AD. Send your comments to an address listed in the ADDRESSES section. Include the docket number “Docket No. FAA-2005-22557; Directorate Identifier 2005-NM-147-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On July 11, 2000, we issued AD 2000-14-12, amendment 39-11822 (65 FR 44672, July 19, 2000), for certain McDonnell Douglas MD-11 series airplanes. That AD requires replacement of the upper and lower reading lights in the forward crew rest area with a redesigned light fixture. That AD resulted from reports of burning and smoldering blankets in the forward crew rest area due to a reading light fixture that came into contact with the blankets after the light was inadvertently left on. We issued that AD to prevent a possible flammable condition, which could result in smoke and fire in the forward crew rest area.

Actions Since Existing AD Was Issued

Since we issued AD 2000-14-12, Boeing has issued McDonnell Douglas Alert Service Bulletin MD11-25A233, Revision 1, dated May 10, 2005. Boeing received a report that the old reading lights were inadvertently sent to an additional ten airplanes and subsequently added the airplanes to the effectivity of the service bulletin.

Relevant Service Information

We have reviewed McDonnell Douglas Alert Service Bulletin MD11-25A233, Revision 1, dated May 10, 2005. The service bulletin describes procedures for the replacement of the upper and lower reading lights in the forward crew rest area with a redesigned light fixture. The procedures are essentially the same as the original issue of the service bulletin (referenced as the appropriate source of service information for accomplishing the actions required by AD 2000-14-12). The service bulletin was revised to add airplanes to the effectivity. Accomplishing the actions specified in the service information is intended to adequately address the unsafe condition.

McDonnell Douglas Alert Service Bulletin MD11-25A233 refers to AIM Aviation Service Incorporated Service Bulletin AIM-MD11-25-2, Revision D, dated March 16, 2005; as an additional source of service information for accomplishment of the replacement.

FAA's Determination and Requirements of the Proposed AD

We have evaluated all pertinent information and identified an unsafe condition that is likely to develop on other airplanes of the same type design. For this reason, we are proposing this AD, which would supersede AD 2000-14-12 and would retain the requirements of the existing AD. This proposed AD would also add ten airplanes to the applicability of the existing AD.

Explanation of Change to Applicability

We have revised the applicability of the existing AD to identify model designations as published in the most recent type certificate data sheet for the affected models.

Costs of Compliance

There are about 81 airplanes of the affected design in the worldwide fleet. The existing AD affects about 14 airplanes of U.S. registry. This proposed AD would affect an additional 10 airplanes of U.S. registry.

The actions that are required by AD 2000-14-12 and retained in this proposed AD take about 1 work hour per airplane, at an average labor rate of $65 per work hour. Required parts cost about $933 per airplane. Based on these figures, the estimated cost of the currently required actions is $998 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11822 (65 FR 44672, July 19, 2000) and adding the following new airworthiness directive (AD):

McDonnell Douglas: Docket No. FAA-2005-22557; Directorate Identifier 2005-NM-147-AD.

Comments Due Date

(a) The FAA must receive comments on this AD action by November 14, 2005.

Affected ADs

(b) This AD supersedes AD 2000-14-12.

Applicability

(c) This AD applies to McDonnell Douglas Model MD-11 and MD-11F airplanes, certificated in any category, as identified McDonnell Douglas Alert Service Bulletin MD11-25A233, Revision 1, dated May 10, 2005.

Unsafe Condition

(d) This AD results from reports of burning and smoldering blankets in the forward crew rest area due to a reading light fixture that came into contact with the blankets after the light was inadvertently left on. We are issuing this AD to prevent a possible flammable condition, which could result in smoke and fire in the forward crew rest area.

Compliance

(e) You are responsible for having the actions required by this AD performed within the compliance times specified, unless the actions have already been done.

Restatement of the Requirements of AD 2000-14-12

Replacement

(f) For airplanes identified in McDonnell Douglas Alert Service Bulletin MD11-25A233, dated June 9, 1999: Within 6 months after August 23, 2000 (the effective date of AD 2000-14-12), replace the upper and lower reading lights in the forward crew rest area with a redesigned light fixture, in accordance with McDonnell Douglas Alert Service Bulletin MD11-25A233, dated June 9, 1999; or Revision 1, dated May 10, 2005. After the effective date of this AD, do the replacement in accordance with McDonnell Douglas Alert Service Bulletin MD11-25A233, Revision 1, dated May 10, 2005.

Note 1: McDonnell Douglas Alert Service Bulletin MD11-25A233 refers to AIM Aviation Service Incorporated Service Bulletin AIM-MD11-25-2, Revision C, dated March 8, 1999; and Revision D, dated March 16, 2005; as additional sources of service information for replacing the upper and lower reading lights in the forward crew rest area.

New Requirements of This AD

Replacement

(g) For all airplanes except those identified in paragraph (f) of this AD: Within 6 months after the effective date of this AD, do the replacement specified in paragraph (f) of this AD.

Parts Installation

(h) As of the effective date of this AD, no person may install, on any airplane, a reading lamp, part number (P/N) 2232, and light fixture, P/N 0200500-001.

Alternative Methods of Compliance (AMOCs)

(i)(1) The Manager, Los Angeles Aircraft Certification Office (ACO), FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) AMOCs approved previously in accordance with AD 2000-14-12, amendment 39-11822, are approved as AMOCs for the corresponding provisions of this AD.

Issued in Renton, Washington, on September 21, 2005.
Ali Bahrami,
Manager, Transport Airplane Directorate, Aircraft Certification Service.

[FR Doc. 05-19565 Filed 9-29-05; 8:45 am]

BILLING CODE 4910-13-P